DEPARTMENT OF COMMERCE

National Institute of Standards and Technology

Proposed Information Collection; Comment Request; NIST Weights and Measures Survey

ACTION: Notice.

SUMMARY: The Department of Commerce, as part of its continuing effort to reduce paperwork and respondent burden, invites the general public and other Federal agencies to take this opportunity to comment on the proposed and/or continuing information collections, as required by the Paperwork Reduction Act of 1995, Pub. L. 104-13 (44 U.S.C. 3504(c)(2)(A)).

DATES: Written comments on the proposed collection of information must be submitted on or before August 12, 2002.

ADDRESSES: Submit written comments on the collection of information to Madeleine Clayton, Departmental Paperwork Clearance Officer, Department of Commerce, Room 6608, 1401 Constitution Avenue, NW., Washington, DC 20230, or via the Internet at MClayton@doc.gov.

FOR FURTHER INFORMATION CONTACT: Requests of additional information, for copies of the information collection instrument(s) and instructions should be directed to Henry Oppermann, 100 Bureau Drive, Stop 2600, Gaithersburg, MD 20899-2600, Tel. (301) 975-5507, or henry.oppermann@nist.gov.

SUPPLEMENTARY INFORMATION:

I. Abstract

The NIST Weights and Measures Division (WMD) is part of Technology Services in Gaithersburg, MD. The WMD is the national technical resource on U.S. weights and measures standards, practices, and test procedures. Weights and measures regulatory control of the commercial measurement system is performed at the state and local government level. The study is to document the changes that have occurred over the past 10 years in state and local weights and measures enforcement programs in terms of funding, administration, and allocation of resources to their different regulatory activities. Additionally, approximately fifteen weights and measures directors will be interviewed to obtain information as to how the regulatory environment and their operations have changed over 10 years to identify trends. Jurisdictions will be asked to identify what they see as their most critical needs under the current environment and operation conditions of their programs. The changes in the number of businesses and devices regulated by weights and measures will be examined to assess how the nature of the regulated businesses has changed. Approximately ten representatives of companies that manufacturer scales, load cells, and meter manufacturers will be interviewed to identify how their markets and customer needs have changed, and how this has affected their views on national and international standards. The responses will help state and local weights and measures offices evaluate their programs. This information will be used to assess the impact of weights and measures enforcement activities, and set program directions and priorities for the NIST Weights and Measures Division.

II. Method of Collection

Web forms will be the primary method to collect information on weights and measures resources, workloads, and distribution of resources. Paper forms as a backup data collection method for those who cannot access the web forms or prefer responding on paper. Interviews with selected weights and measures officials and industry representatives will result in the identification and assessment of national and international market trends, and trends in state and local budgets and program operations.

III. Data

OMB Number: None.

Form Number: None.

Type of Review: Regular submission.

Affected Public: State or local government, business or for-profit organizations.

Estimated Number of Respondents: 90.

Estimated Time Per Response: 6 hours.

Estimated Total Annual Burden Hours: 540.

Estimated Total Annual Cost to the Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Dated: June 6, 2002.
Madeleine Clayton,
Departmental Paperwork Clearance Officer, Office of the Chief Information Officer.

[FR Doc. 02-14659 Filed 6-10-02; 8:45 am]

BILLING CODE 3510-13-P